DEPARTMENT OF ENERGY

Federal Energy Regulatory Commission

Combined Notice of Filings #1

Take notice that the Commission received the following electric corporate filings:

Docket Numbers: EC18-98-000.

Applicants: Grays Harbor Energy LLC, Hardee Power Partners Limited, Invenergy Cannon Falls LLC, Invenergy Nelson LLC, Lackawanna Energy Center LLC, Spindle Hill Energy LLC.

Description: Application for Authorization Under Section 203 of the Federal Power Act and Request for Waivers and Expedited Action of Grays Harbor Energy LLC, et al.

Filed Date: 6/7/18.

Accession Number: 20180607-5150.

Comments Due: 5 p.m. ET 6/28/18.

Take notice that the Commission received the following electric rate filings:

Docket Numbers: ER18-1078-001.

Applicants: Southwest Power Pool, Inc.

Description: Tariff Amendment: Deficiency Response—Revisions to Require PMUs at New Interconnections to be effective 5/13/2018.

Filed Date: 6/7/18.

Accession Number: 20180607-5127.

Comments Due: 5 p.m. ET 6/28/18.

Docket Numbers: ER18-1762-000.

Applicants: PJM Interconnection, L.L.C.

Description: Tariff Cancellation: Notice of Cancellation of ISA SA No. 3525; Queue No. V3-015 to be effective 6/26/2018.

Filed Date: 6/7/18.

Accession Number: 20180607-5131.

Comments Due: 5 p.m. ET 6/28/18.

Docket Numbers: ER18-1763-000.

Applicants: PJM Interconnection, L.L.C.

Description: § 205(d) Rate Filing: Original WMPA, SA No. 5100; Queue No. AC1-212 to be effective 5/9/2018.

Filed Date: 6/8/18.

Accession Number: 20180608-5119.

Comments Due: 5 p.m. ET 6/29/18.

Docket Numbers: ER18-1764-000.

Applicants: Public Service Company of Colorado.

Description: § 205(d) Rate Filing: PSCo-TSGT-UP-PkwySS-CO-Agmt F174-479-0.0.0 to be effective 6/9/2018.

Filed Date: 6/8/18.

Accession Number: 20180608-5120.

Comments Due: 5 p.m. ET 6/29/18.

Take notice that the Commission received the following electric securities filings:

Docket Numbers: ES18-39-000.

Applicants: Consumers Energy Company.

Description: Application of Consumers Energy Company for Authority to Issue Securities.

Filed Date: 6/8/18.

Accession Number: 20180608-5083.

Comments Due: 5 p.m. ET 6/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 8, 2018.
Kimberly D. Bose,
Secretary.

[FR Doc. 2018-12875 Filed 6-14-18; 8:45 am]

BILLING CODE 6717-01-P